DEPARTMENT OF ENERGY

Federal Energy Regulatory Commission

[Docket No. RP01-245-000]

Transcontinental Gas Pipe Line Corporation; Notice of Tariff Filing

March 6, 2001.

Take notice that on March 1, 2001, Transcontinental Gas Pipe Line Corporation (Transco) tendered for filing as part of its FERC Gas Tariff, Third Revised Volume No. 1, the tariff sheets listed in appendix A to that filing, to become effective April 1, 2001.

Transco states that the tariff sheets submitted in the filing reflect a general rate increase. Transco states that the cost of service proposed in the filing is $876,958,109, compared to a cost of service of $649,115,408 underlying Transco's rates found just and reasonable in Docket No. RP97-71, as more fully described in the filing. Transco states that the principal factors supporting the increase in cost of service are (1) an increase in rate base resulting from additional plant, (2) an increase in rate of return and related taxes, and (3) an increase in operation and maintenance expenses.

Transco further states that the filing reflects the following changes from its pre-filed methods: (1) A proposed decrease in the annual depreciation accrual rate for three of its plant categories, (2) the application of established cost allocation methods to the NIPPS/IEC transportation service, (3) the inclusion of the Commission approved Maiden Lateral Surcharge, (4) the roll-in of Transco's Mobile Bay expansion project approved in Docket No. CP97-92 which was placed into service in August 1998, (5) a revision to Transco's revenue sharing provisions related to Rate Schedules ISS, ICTS, and PBS, (6) the allocation of 100% of the costs of the capacity formerly used to provide the Rate Schedule X-140 service to Mid-Louisiana Gas Company to non-incrementally priced transportation services, and (7) the elimination of the Mobile Bay “at risk” condition.

Transco states that the instant filing also proposes on a prospective only basis the following changes to pre-filed methods: (1) To roll-in the costs of its SunBelt, Pocono and Cherokee expansion transmission facilities, which are currently subject to incremental pricing, and (2) the amendment of its transmission electric power tracking mechanism in Section 41 of the General Terms and Conditions of Transco's FERC Gas Tariff to include costs associated with the operation of gas coolers at Transco's various compressor station locations, which amendment is reflected in a pro forma tariff sheet included with the filing.

Transco states that copies of the filing are being mailed to each of its affected customers, interested State Commissions, and other interested parties.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5996 Filed 3-9-01; 8:45 am]

BILLING CODE 6717-01-M